Title 3—

The President

Proclamation 7322 of June 13, 2000

225th Anniversary of the United States Army

By the President of the United States of America

A Proclamation

On June 14, 1775, the Second Continental Congress authorized the enlistment of ten companies of riflemen in Maryland, Pennsylvania, and Virginia as the first units of the Continental Army. Few could have foreseen that this small band of citizen-soldiers would lay the cornerstone of freedom for our Nation and the foundation for what would become the finest army in the world.

For 225 years, in war and in peace, every generation of American soldiers has served our Nation with unwavering courage, skill, and commitment. The first soldiers of the Continental Army gave life to the United States of America in 1776. In the following century, the Army protected our new country's frontiers and preserved our Union through the terrible strife of the Civil War. In the 20th century, American soldiers fought and died in two World Wars to defend democracy and win the global struggle against fascism. And, for the last half of the 20th century, in Korea and Vietnam and throughout the dark decades of the Cold War, our Army shielded the free world from the forces of communism and ensured the triumph of democracy.

Today, the men and women of America's Army—Active, National Guard, and Reserve—continue to advance our Nation's interests around the world. Across the globe, in the face of aggression, tyranny, and despair, our soldiers have responded as allies, liberators, and humanitarians. All Americans rightly take pride in this truly American institution and its enduring strength and vitality.

In the Roosevelt Room of the White House, the flag of the United States Army stands proudly, bearing 173 streamers that mark the battles fought and won. From Lexington in 1775 to Southwest Asia in 1991, these colorful banners are a striking visual reminder of the U.S. Army's glorious history and a silent tribute to the hundreds of thousands of soldiers whose sacrifices have kept our Nation free. As we mark the Army's 225th anniversary, I ask all Americans to join me in reflecting with pride and gratitude on the contributions of the loyal and courageous men and women who have served in the United States Army to preserve our liberty, uphold our values, and advance our interests.

NOW, THEREFORE, I, WILLIAM J. CLINTON, President of the United States of America, do hereby proclaim June 14, 2000, as the 225th Anniversary of the United States Army. I urge all Americans to observe this day with appropriate programs, ceremonies, and activities that celebrate the history, heritage, and service of the United States Army.

IN WITNESS WHEREOF, I have hereunto set my hand this thirteenth day of June, in the year of our Lord two thousand, and of the Independence of the United States of America the two hundred and twenty-fourth.

wj

[FR Doc. 00-15417

Filed 6-15-00; 8:45 am]

Billing code 3195-01-P